DEPARTMENT OF AGRICULTURE

Forest Service

Wallowa-Whitman National Forest, Oregon and Washington; Wallowa-Whitman National Forest Invasive Plants Treatment

AGENCY: Forest Service, USDA.

ACTION: Notice of intent to prepare an environmental impact statement.

SUMMARY: The Wallowa-Whitman National Forest proposes to treat approximately 25,000 acres of invasive plants located across the 2.4 million acre National Forest. The Forest anticipates to treat approximately 4,000 acres of invasive plant sites annually. The proposed treatment methods include: manual pulling and hand tools, mechanized hand tools, herbicides, and biological controls. The method proposed for a given site would depend largely on the protection of resources and the effectiveness of the method on the target invasive plant species.

DATES: Comments regarding the proposed action must be received by May 17, 2006. The draft environmental impact statement is expected in March, 2007 and the final environmental impact statement is expected in September, 2007.

ADDRESSES: Please address written comments about this project to Steven A. Ellis, Forest Supervisor, Wallowa-Whitman National Forest, P.O. Box 907, Baker City, OR 97814. Electronic comments can be mailed to: comments-pacificnorthwest-wallowa-whitman@fs.fed.us.

FOR FURTHER INFORMATION CONTACT: Gene Yates, Wallowa-Whitman National Forest, PO Box 907, Baker City, OR 97814. Phone: 541-523-1390 or e-mail gyates@fs.fed.us.

SUPPLEMENTARY INFORMATION:

Proposed and Need for Action

Using a technologically modern approach to control or eradicate invasive plants, the purpose of this action is to maintain or improve the diversity, function, and sustainability of desired native plant communities and other natural resources that can be adversely impacted by invasive plant species. Specifically, there is an underlying need on the Forest to: (1) Implement treatment actions to contain and reduce the extent of invasive plants at existing inventoried sites, and (2) rapidly respond to new or expanded invasive plant sites as they may occur in the future.

Proposed Action

A detailed project description can be requested by using the information request form at this Internet address: http://www.fs.fed.us/r6/w-w/contact/feedback.shtml or by contacting the person listed above.

In 2005 the Pacific Northwest Region completed an FEIS and ROD for Preventing and Managing Invasive Plants, which provided new direction to Forests for preventing and managing invasive plant sites including an updated list of herbicides that are approved for use. These new herbicides offer many advantages over the more limited set previously allowed, including greater selectivity for invasive plants, less harm to desired vegetation, reduced application rates, and lower toxicity to wildlife and people. The proposed invasive plant treatments will be guided by this FEIS.

Various methods would be used to contain, control or eradicate invasive plants including herbicides, manual or power tools and biological control. The approximate cumulative area of invasive plant sites that would be treated by these methods are: (a) Herbicides: 19,950 acres: (b) biological control: 4975 acres, (c) manual or mechanical methods: 300 acres. A description of each method follows.

Herbicide Treatments: Chemical herbicides would be applied in accordance with USDA Forest Service regulations, policies, Forest Plan Standards and the manufacturer's product label requirements. Herbicides approved for use in the Pacific Northwest Region Invasive Plant Program Preventing and Managing Invasive Plants FEIS (Regional Invasive Plant EIS), April 2005 and Record of Decision. These herbicides include: chlorosulfuron, clopyralid, glyphosate, imazapic, imazapyr, metsulfuron methyl, picloram, sethoxydim, sulfometuron methyl, and triclopyr. The application rates and methods will depend on the target invasive plant species and environmental conditions, such as soil type; depth to the water table; the distance to open water sources; wetland or upland status; proximity to sensitive, rare or endemic plants; and the requirements of the herbicide manufacturer's label. Follow-up treatments may be needed depending on the effectiveness of level of control attained by the initial treatment.

Ground based or aerial application methods would be chosen based on the accessibility, topography and size of a given treatment area. The following are examples of the proposed methods of application:

• Spot spraying—The applicator sprays individual plants usually from a backpack sprayer, but the method can also be used with a hose originating from a tank mounted on a truck or ATV.

• Wicking—The applicator wipes an herbicide-saturated sponge or cloth over the target plant. This is often used in sensitive areas, such as near water, to avoid herbicide drift or contact with the soil and non-target vegetation.

• Stem injection—A new hand application technique currently being used on Japanese knotweed in western OR & WA. A tool is used to inject herbicide directly into a plant.

• Broadcast application—Herbicide is applied to a broad area of ground rather than individual plants. This method is used when the target invasive plant is so large and dense that spot spraying becomes impractical. Broadcast application is normally accomplished with a boom apparatus mounted on a truck or ATV.

• Aerial application—a boom is mounted on a helicopter or fixed-wing aircraft. This method is used where invasive plant sites are too large, remote, or steep to be reached by ground based equipment.

If needed, sites would be restored using native seed, where practical.

Manual Treatment Methods: These methods include non-mechanized approaches, such as hand pulling or using hand tools to dig or grub out plants or cut off seed heads. Handsaws, axes, shovel, rakes, machetes, grubbing hoes, mattocks, brush hooks, and hand clippers may all be used to remove invasive plant species.

Mechanical Treatment Methods: This method uses power tools and includes one or more of the following actions: mowing, weed whipping, road brushing, tilling or steaming.

Biological Control: Biological control is the release of inspects, parasites, or disease pathogens which feed on or parasitize specific invasive plants. Presently, insects are the primary biological control agent in use. Mites, nematodes, and pathogens are occasionally used. Biological control treatments do not eradicate the target species but reduce invasive plant cover to an acceptable level. Biological control release sites would be monitored to determine the success of the treatments.

Invasive plant prevention measures have been adopted with the Pacific Northwest Region Invasive Plant Program Preventing and Managing Invasive Plants Record of Decision and FEIS and will be implemented with this action as required.

Responsible Official

The Forest Supervisor, Steven A. Ellis, will be the responsible official for making the decision and providing direction for the analysis. He may be contacted at the address listed above.

Nature of Decision To Be Made

The responsible official will decide what type of methods and how they will be used to control invasive plants on the Wallowa-Whitman National Forest.

Scoping Process

The public is asked to provide the responsible official with written comments describing their concerns about this project.

Comment Requested

This notice of intent begins the scoping process in the development of the environmental impact statement. The most useful comments to developing or refining the proposed action would be site specific concerns and those that can help us develop treatments that would be responsive to our goal to control, contain, or eradicate invasive plants as well as being cost effective.

Early Notice of Importance of Public Participation in Subsequent Environmental Review

A draft environmental impact statement will be prepared for comment. The comment period on the draft environmental impact statement will commence 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)
Dated: April 6, 2006.
Steven A. Ellis,
Forest Supervisor.

[FR Doc. 06-3553 Filed 4-12-06; 8:45 am]

BILLING CODE 3410-11-M